GENERAL SERVICES ADMINISTRATION

41 CFR Chapter 301

[FTR Amendment 87]

RIN 3090-AH18

Federal Travel Regulation; Maximum Per Diem Rates and Other Travel Allowances

AGENCY: Office of Governmentwide Policy, GSA.

ACTION: Final rule; correction.

SUMMARY: This document corrects entries listed in the prescribed maximum per diem rates for locations within the continental United States (CONUS), and footnote 4, contained in a final rule appearing in Part III of the Federal Register of Thursday, December 2, 1999 (64 FR 67670). The rule, among other things, increased/decreased the maximum lodging amounts in certain existing per diem localities, added new per diem localities, and removed a number of previously designated per diem localities.

EFFECTIVE DATE: January 1, 2000.

FOR FURTHER INFORMATION CONTACT: Joddy P. Garner, Office of Governmentwide Policy (MTT), Washington, DC 20405, telephone 202- 501-4857.

SUPPLEMENTARY INFORMATION: In rule document 99-31215 beginning on page 67670 in the issue of Thursday, December 2, 1999, make the following corrections:

Appendix A to Chapter 301 [Corrected]

1. On page 67678, under the State of Louisiana, in the 31st line from the bottom under the entry New Orleans/Plaquemine/St. Bernard, column two is corrected to remove the word “New”.

2. On page 67679, under the State of Maryland, in the 15th line from the top under the entry Lexington Park/Leonardtown/Lusby, column two is corrected to remove the apostrophe and to add “and Calvert”.

3. On page 67679, under the State of Michigan, in the 11th line from the bottom under the entry Auburn, column two is corrected to read “Bay (except Auburn Hills, see Oakland and City limits of Auburn Hills)”.

4. On page 67680, under the State of Michigan, in the 24th line from the bottom under the entry Pontiac/Troy/Auburn Hills, column two is corrected to read “Oakland and City limits of Auburn Hills (see Bay County)”.

5. On page 67683, under the State of Ohio, in the fifth line from the bottom under the entry Cincinnati, column two is corrected to read “Hamilton and Warren”.

6. On page 67684, under the State of Pennsylvania, in the ninth line from the bottom under the entry King Prussia/Ft. Washington/Bala Cynwyd, column one is corrected to read “King of Prussia/Ft. Washington/Bala Cynwyd”, and column two is corrected to add the county “Montgomery”.

7. On page 67688, footnote 4 is corrected to include missing text and is set out in its entirety for the ease of the reader. The corrected text should read as follows:

Appendix A to Chapter 301—Prescribed Maximum Per Diem Rates for CONUS

* * * * *

Per diem locality: Key city ¹ | County and/or other defined location 2 3 | Maximum lodging amount (room rate only—no taxes) | + | M&IE rate | = | Maximum per diem rate ⁴
|  | (a) |  | (b) |  | (c)
* * * * * * *
LOUISIANA
* * * * * * *
New Orleans/Plaquemine/St. Bernard | Orleans, Iberville and St. Bernard | 88 |  | 42 |  | 130
* * * * * * *
MARYLAND
* * * * * * *
Lexington Park/Leonardtown/Lusby | St. Marys and Calvert | 66 |  | 34 |  | 100
* * * * * * *
MICHIGAN
* * * * * * *
Auburn | Bay (except Auburn Hills, see Oakland and City limits of Auburn Hills) | 59 |  | 38 |  | 97
* * * * * * *
Pontiac/Troy/Auburn Hills | Oakland and City limits of Auburn Hills (see Bay County) | 93 |  | 38 |  | 131
* * * * * * *
OHIO
Cincinnati | Hamilton and Warren | 69 |  | 46 |  | 115
* * * * * * *
PENNSYLVANIA
* * * * * * *
King of Prussia/Ft. Washington/Bala Cynwyd | Montgomery | 84 |  | 42 |  | 126
* * * * * * *
⁴ Federal agencies may submit a request to GSA for review of the costs covered by per diem in a particular city or area where the standard CONUS rate applies when travel to that location is repetitive or on a continuing basis and travelers' experiences indicate that the prescribed rate is inadequate. Other per diem localities listed in this appendix will be reviewed on an annual basis by GSA to determine whether rates are adequate. Requests for per diem rate adjustments shall be submitted by the agency headquarters office to the General Services Administration, Office of Governmentwide Policy, Attn: Travel and Transportation Management Policy Division (MTT), Washington, DC 20405. Agencies should designate an individual responsible for reviewing, coordinating, and submitting to GSA any requests from bureaus or subagencies. Requests for rate adjustments shall include a city designation, a description of the surrounding location involved (county or other defined area), and a recommended rate supported by a statement explaining the circumstances that cause the existing rate to be inadequate. The request also must contain an estimate of the annual number of trips to the location, the average duration of such trips, and the primary purpose of travel to the location. Agencies should submit their requests to GSA no later than May 1 in order for a city to be included in the annual review

Dated: January 14, 2000.
William T. Rivers,
Acting Director, Travel and Transportation Management Policy Division.

[FR Doc. 00-1444 Filed 1-20-00; 8:45 am]

BILLING CODE 6820-44-P